EQUAL EMPLOYMENT OPPORTUNITY COMMISSION

Sunshine Act Meeting

Agency Holding the Meeting: Equal Employment Opportunity Commission.

Date and Time: Tuesday, December 2, 2003, 9:30 a.m. Eastern Time.

Place: Clarence M. Mitchell Conference Room on the Ninth Floor of the EEOC Office Building, 1801 “L” Street, NW., Washington, DC 20507.

Status: The meeting will be open to the public.

Matters to be Considered:

Open Session:

1. Announcement of Notation Votes, and

2. Invited Panelists—Discussion of the EEOC Mediation Program and the Workplace Benefits of Mediation.

Note: Any matter not discussed or concluded may be carried over to a later meeting. (In addition to publishing notices on EEOC Commission meetings in the Federal Register, the Commission also provides a recorded announcement a full week in advance on future Commission sessions.

Please telephone (202) 663-7100 (voice) and (202) 663-4074 (TTD) at any time for information on these meetings.

FOR FURTHER INFORMATION CONTACT: Frances M. Hart, Executive Officer on (202) 663-4070.

Dated: November 18, 2003.
Frances M. Hart,
Executive Officer, Executive Secretariat.

[FR Doc. 03-29179 Filed 11-18-03; 12:19 pm]

BILLING CODE 6750-06-M